DEPARTMENT OF HEALTH AND HUMAN SERVICES

Administration for Children and Families

Submission for OMB Review; Comment Request

Title: Building Bridges and Bonds (B3) Study: Data Collection.

OMB No.: New Collection.

Description: The Administration for Children and Families (ACF), Office of Planning, Research and Evaluation (OPRE) proposes to collect information as part of the Building Bridges and Bonds (B3) study. B3 will inform policymakers, program operators, and stakeholders about effective ways for fatherhood programs to support fathers in their parenting and employment. In particular, partnering with programs that serve low-income fathers to promote responsible fatherhood, the B3 study will examine the effectiveness of strategies used to (1) engage fathers in program activities, (2) develop and support parenting and co-parenting skills, and (3) advance the employment of disadvantaged fathers. The study will include up to six sites and specific interventions will vary by site.

B3 includes an impact evaluation and a process study. The impact evaluation will involve randomly assigning individuals to a treatment or comparison condition and comparing key outcomes including employment; earnings; child support; father/child contact, shared activities, and relationship quality; father's commitment to his child, parenting skills, and parenting efficacy; co-parenting relationship quality; and criminal justice outcomes.

The process study will describe and document each newly established intervention and how it operated to provide insight into the treatment differentials and the context for interpreting findings of the impact study and highlight lessons to the field.

Data collection instruments for the B3 study include the following: (1) Screening for program eligibility. (2) nFORM management information system (MIS) to record study and participation information. (3) Baseline and follow-up surveys for the impact study. (4) Staff surveys and interviews, focus groups with participants and mothers, mobile device surveys for participants, and post-session debrief forms to inform the process study.

Respondents: Fathers seeking services from one of the six Responsible Fatherhood Programs in the B3 study and staff members working at the B3 sites.

ANNUAL BURDEN ESTIMATES
Instrument | Respondent | Total number of respondents | Annual number of respondents | Number of responses per respondent | Average burden hours per response | Annual burden hours
1—Screening questions for parenting intervention | Applicant Staff | 4,000 36 | 1,333 12 | 1 111 | 0.083 0.083 | 111 111
2—Screening questions for employment intervention | Applicant Staff | 900 12 | 300 4 | 1 75 | 0.250 0.250 | 75 75
3—Consent Materials for Parents of Fathers under 18 | Parent of Applicant Staff | 500 36 | 167 12 | 1 14 | 0.167 0.167 | 28 28
4—B3-specific eligibility data | Applicant Staff | 6,400 72 | 2,133 24 | 1 89 | 0.017 0.017 | 36 36
5—B3-specific enrollment data | Applicant Staff | 2,700 72 | 900 24 | 1 38 | 0.153 0.151 | 138 138
6—B3 tracking of attendance in services for program group members | Staff | 72 | 24 | 363 | 0.008 | 70
7—Additional nFORM burden for non-Grantee site | Applicant Staff | 450 12 | 150 4 | 1 1,969 | 0.250 0.0343 | 38 270
8 & 9—Baseline surveys | Applicant | 2,842 | 947 | 1 | 0.800 | 758
10 & 11—6 month follow-up surveys. | Applicant | 2,430 | 810 | 1 | 0.667 | 540
12 & 13—Staff and management semi-structured interviews | Staff | 240 | 80 | 2 | 1.5 | 240
14 & 15—Staff surveys | Staff | 240 | 80 | 1 | 0.667 | 53
16—Participant focus groups | Applicant | 160 | 53 | 1 | 2.0 | 106
17—Mother Focus Groups | Co-parent of Applicant | 80 | 27 | 1 | 1.0 | 27
18 & 19—Mobile device surveys | Applicant | 1,350 | 450 | 5 | 0.117 | 263
20—Post-session debrief for sites testing parenting intervention | Staff | 36 | 12 | 104 | 0.083 | 104

Estimated Total Annual Burden Hours: 3,245.

Additional Information: Copies of the proposed collection may be obtained by writing to the Administration for Children and Families, Office of Planning, Research and Evaluation, 330 C Street SW., Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
ACF Reports Clearance Officer.

[FR Doc. 2016-08202 Filed 4-8-16; 8:45 am]

BILLING CODE 4184-73-P